DEPARTMENT OF HOUSING AND URBAN DEVELOPMENT

[Docket No. FR-4800-FA-12A]

Announcement of Funding Awards for Fiscal Year 2003; Doctoral Dissertation Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year (FY) 2003 Doctoral Dissertation Research Grant (DDRG) Program. The purpose of this document is to announce the names and addresses of the award winners and the amount of the awards to be used to help doctoral candidates complete dissertations on topics that focus on housing and urban development issues.

FOR FURTHER INFORMATION CONTACT: Susan Brunson, Office of University Partnerships, U.S. Department of Housing and Urban Development, 451 Seventh Street, SW., Room 8106, Washington, DC 20410, telephone (202) 708-3061, ext. 3852. To provide service for persons who are hearing-or-speech-impaired, this number may be reached via TTY by Dialing the Federal Information Relay Service on (800) 877-8339 or (202) 708-1455. (Telephone number, other than “800” TTY numbers are not toll free).

SUPPLEMENTARY INFORMATION: The DDRG Program was created as a means of expanding the number of researchers conducting research on subjects of interest to HUD. Doctoral candidates can receive grants of up to $25,000 to complete work on their dissertations. Grants are for a two-year period.

The Office of University Partnerships under the Assistant Secretary for Policy Development and Research (PD&R) administers this program. This Office also administers PD&R's other grant programs for academics.

The Catalog of Federal Domestic Assistance number for this program is 14.516.

April 23, 2003 (68 FR 21173), HUD published a Notice of Funding Availability (NOFA) announcing the availability of $400,000 in FY2003 for the DDRG Program. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below. More information about the winners can be found at http://www.oup.org.

List of Awardees for Grant Assistance Under the FY 2003 Doctoral Dissertation Reseach Grant Program Funding Competition, by Institution, Address, Grant Amount and Name of Student Funded

1. University of Michigan, Ms. Gail Jackson, (734) 764-7243, Ford School of Public Policy, 615 Tappan Street, 440 Lorch Hall, Ann Arbor, MI 48109. Grant: $25,000 to Zaire Dinzey-Flores.

2. Cornell University, Mr. Michael S. Lenetsky, (607) 255-6306, Cornell University, 310 West Sibley Hall, Ithaca, NY 14853. Grant: $25,000 to Yizhao Yang.

3. Washington University, Ms. Cynthia White, (314) 935-5889, School of Social Work, One Brookings Drive, Campus Box 1196, St. Louis, MO 63130. Grant: $25,000 to Michael Grinstein-Weiss.

4. University of Pennsylvania, Ms. Lauren Oshana, (215) 573-6710, School of Social Work, 3701 Locust Walk, Philadelphia, PA 19104. Grant: $25,000 to Robert Fairbanks.

5. University of North Carolina at Chapel Hill, Mr. Tony Waldrop, (919) 962-1319, Center for Urban and Regional Studies, CB#3410, Hickerson House, Chapel Hill, NC 27599. Grant: $20,781 to Oswaldo Urdapilleta Gonzalez.

6. Temple University, Dr. Kenneth Soprano, (215) 204-7000, Center for Public Policy, 1115 West Berks Street, Gladfelter Hall, 10th Floor, Philadelphia, PA 19122. Grant: $25,000 to Juris Milestone.

7. University of Arizona, Mr. Richard Powell, (520) 621-3513, University of Arizona, P.O. Box 210030, Tucson, AZ 85712. Grant: $12,575 to Martha Valado.

8. Boston University, Mr. John Imbergamo, (617) 353-2290, Department of Sociology, 99 Cunningham Street, Boston, MA 02115. Grant: $25,000 to Alexandra Curley.

9. Pennsylvania State University, Mr. Robert Killoren, (814) 865-3396, Pennsylvania State University, 211 Oswald Tower, University Park, PA 16802. Grant: $25,000 to Chad Farrell.

10. University of Maryland-College Park, Ms. Monique Anderson, (301) 405-6272, Department of Economics, Tydings Hall, Room 3105, College Park, MD 20742. Grant: $25,000 to Joseph Nichols.

11. University of Chicago, Dr. Mary Ellen Sheridan, (773) 702-8604, Department of Sociology, 1126 East 59th Street, Chicago, IL 60637. Grant: $24,850 to Derek Hyra.

12. Massachusetts Institute of Technology, Mr. Langley Keys, (617) 252-1540, Department of Urban Studies and Planning, 77 Massachusetts Avenue, Cambridge, MA 021239. Grant $23,850 to David Greenburg.

13. University of Massachusetts, Mr. Stanely Bolotin, (617) 287-5377, Department of Public Policy, 100 Morrissey Boulevard, Boston, MA 02125. Grant: $24,905 to Tatjana Meschede.

14. University of Georgia, Mr. Gordhan Patel, (706) 542-5969, Department of Geography, Athens, GA 30602. Grant: $25,000 to Qingfang Wang.

15. University of Michigan, Ms. Julie Berry Cullen, (734) 764-2367, Institute for Social Research, P.O. Box 1248, Bay 3062, Ann Arbor, MI 48106. Grant: $21,500 to Martin Farnham.

16. Virginia Polytechnic Institute of State University, Ms. Terry Kershaw, (540) 231-3496, 560 McBryde Hall, Blacksburg, VA 24061. Grant: $ 24,460 to Tiffany Chenault.

17. Harvard University, Ms. Mary Mitchell, (617) 495-5503, NBER, 1050 Massachusetts Avenue, Cambridge, MA 02138. Grant: $22,079 to Jonah Rockoff.

Dated: June 7, 2006.
Darlene F. Williams,
Assistant Secretary for Policy Development and Research.

[FR Doc. E6-9551 Filed 6-16-06; 8:45 am]

BILLING CODE 4210-67-P